DEPARTMENT OF THE INTERIOR

Bureau of Indian Affairs

[189A2100DD/AAKC001030/A0A501010.999900]

Rincon Band of Luiseño Mission Indians of the Rincon Reservation; Amendments to Rincon Alcohol Control Ordinance

AGENCY: Bureau of Indian Affairs, Interior.

ACTION: Notice.

SUMMARY: This notice publishes comprehensive amendments to the Rincon Band of Luiseño Mission Indians of the Rincon Reservation's Tribal Code § 7.400, Rincon Alcohol Control Ordinance. This Ordinance amends and supersedes the existing Rincon Alcohol Control Ordinance, Ordinance No. 99-01, enacted by the Rincon Band of Luiseño Mission Indians on June 13, 2000.

DATES: This Ordinance shall become effective February 12, 2018.

FOR FURTHER INFORMATION CONTACT: Mr. Harley Long, Tribal Government Officer, Pacific Regional Office, Bureau of Indian Affairs, 2800 Cottage Way, Room W-2820, Sacramento, California 95825, Telephone: (916) 978-6000, Fax: (916) 978-6099.

SUPPLEMENTARY INFORMATION: Pursuant to the Act of August 15, 1953, Public Law 82-277, 67 Stat. 586, 18 U.S.C. 1161, as interpreted by the Supreme Court in Rice v. Rehner, 463 U.S. 713 (1983), the Secretary of the Interior shall certify and publish in the Federal Register notice of adopted liquor control ordinances for the purpose of regulating liquor transactions in Indian country. On April 18, 2017, the Rincon Band of Mission Indians duly adopted amendments to Tribal Code § 7.400, Rincon Alcohol Control Ordinance. This Federal Register notice comprehensively amends and supersedes the existing Rincon Alcohol Control Ordinance No. 99-01, enacted by the Rincon Band of Luiseño Mission Indians, and published in the Federal Register on October 6, 2000 (65 FR 59864).

This notice is published in accordance with the authority delegated by the Secretary of the Interior to the Assistant Secretary—Indian Affairs. I certify that the Rincon Band of Luiseño Mission Indians of the Rincon Reservation, California, duly adopted these amendments to the Tribe's Tribal Code § 7.400, Rincon Alcohol Control Ordinance on April 18, 2017.

Dated: December 15, 2018.
John Tahsuda,
Principal Deputy Assistant Secretary—Indian Affairs, exercising the authority of the Assistant Secretary—Indian Affairs.

The amended Rincon Band of Luiseño Mission Indian's Tribal Code § 7.400, Rincon Alcohol Control Ordinance, shall read as follows:

Rincon Alcohol Control Ordinance

Tribal Code § 7.400

§ 7.400 Title

§ 7.401 Authority

§ 7.402 Purpose

§ 7.403 Manufacture of Alcohol

§ 7.404 Possession of Alcohol

§ 7.405 Sale of Alcohol

§ 7.406 Age limit

§ 7.407 Civil Penalties

§ 7.408 Severability

§ 7.409 Sovereign Immunity

§ 7.400 Title

This Ordinance shall be known as the Rincon Ordinance Regulating and Controlling the Manufacture, Introduction, Sale or Possession of Alcoholic Beverages within the boundaries of the Rincon Indian Reservation. The short title of this Ordinance shall be “Rincon Alcohol Control Ordinance.”

§ 7.401 Authority

This Ordinance is enacted pursuant to federal law, specifically the Act of August 15, 1953, Public Law 83-277, 67 Stat. 588, 18 U.S.C. 1161, and the Articles of Association, Governing Procedures for Administering the Affairs of The Rincon, San Luiseno Band of Mission Indians, California. This Rincon Alcohol Control Ordinance is in conformity with the laws of the State of California as required by 18 U.S.C. 1161, and with all applicable federal laws.

§ 7.402 Purpose

The purpose of this Ordinance is to regulate and control the possession and sale of alcohol within the exterior boundaries of the Rincon Reservation, and to permit alcohol sales by tribally owned, controlled or operated enterprises, and at tribally approved special events, for the purpose of the economic development of the Rincon Band. The enactment of a tribal ordinance governing alcohol possession and sales within the exterior boundaries of the Rincon Reservation increases the ability of the Tribal Government to control Rincon Reservation alcohol distribution and possession, and will provide an important source of revenue for the continued operation and strengthening of the Tribal Government and the economic viability of Tribal Government services.

§ 7.403 Manufacture of Alcohol

The manufacture of alcoholic beverages by business enterprises owned by or subject to the control of the Rincon Band shall be lawful within the exterior boundaries of the Rincon Reservation provided that such manufacture is in conformity with the laws of the State of California as required by federal law.

§ 7.404 Possession of Alcohol

The introduction or possession of alcoholic beverages shall be lawful within the exterior boundaries of the Rincon Reservation provided that such introduction or possession is in conformity with the laws of the State of California as required by federal law.

§ 7.405 Sale of Alcohol

(a) The sale of alcoholic beverages by business enterprises owned or operated by, or subject to the control of, the Rincon Band shall be lawful within the exterior boundaries of the Rincon Reservation provided that such sale is in conformity with the laws of the State of California as required by federal law.

(b) The sale of alcoholic beverages by the drink at special events authorized by the Rincon Band shall be lawful within the exterior boundaries of the Rincon Reservation provided that such sales are in conformity with the laws of the State of California as required by federal law and with prior approval by resolution of the Tribal Council of the Rincon Band.

§ 7.406 Age Limit

(a) The drinking age within the exterior boundaries of the Rincon Reservation shall be the same as that of the State of California as required by federal law. No person under such age shall purchase, possess or consume any alcoholic beverage within the exterior boundaries of the Rincon Reservation.

(b) The State of California sets the drinking age within California under California Business and Professions Code § 25658. California's drinking age is twenty-one (21) at the time of the enactment of this Ordinance.

(c) At such time, if any, as California Business and Professions Code § 25658 is repealed or amended to raise or lower the drinking age within California, subsection (b) above shall automatically become null and void, and the Tribal Council shall be empowered to enact a new subsection (b) to reference the appropriate provision of the state law, such amendment to become effective upon publication in the Federal Register by the Secretary of the Interior.

§ 7.407 Civil Penalties

The Rincon Band, through its Tribal Council and duly authorized security personnel, shall have the authority to enforce this Ordinance by confiscating any alcohol manufactured, introduced, sold or possessed in violation hereof. The Tribal Council shall be empowered to sell such confiscated alcohol for the benefit of the Rincon Band, and to develop and approve such regulations as may become necessary for enforcement of this Ordinance.

§ 7.408 Severability

If any provision of this Ordinance or the application thereof to any person or circumstance is held unconstitutional or invalid by the Tribal Council, only the invalid provision shall be severed and the remaining provisions and language of this Ordinance shall remain in full force and effect.

§ 7.409 Sovereign Immunity

All inherent sovereign rights of the Band as a federally recognized Indian tribe with respect to provisions authorized in this Ordinance are hereby expressly reserved, including sovereign immunity from unconsented suit. Nothing in the Ordinance shall be deemed or construed to be a waiver of the Band's sovereign immunity from unconsented suit.

[FR Doc. 2018-00346 Filed 1-10-18; 8:45 am]

BILLING CODE 4337-15-P